DEPARTMENT OF THE INTERIOR

Bureau of Land Management

[LLNVS00000 L51010000 PQ0000 LVRWF1403480.241A; MO# 4500088891]

Notice of Realty Action; Segregation of Public Land Located in Clark County, NV

AGENCY: Bureau of Land Management, Interior.

ACTION: Notice.

SUMMARY: This notice serves to segregate the public lands located in Clark County, Nevada, for 2 years from appropriation pursuant to the public land laws, including location pursuant to the General Mining Law of 1872, subject to valid existing rights. This segregation does not apply to oil and gas leases under the Mineral Leasing Act of 1920 or sales of materials such as sand and gravel under the Mineral Materials Act of 1947. The purpose of such segregation is to promote the orderly administration of the public lands, to facilitate the development of valuable renewable energy resources, and to avoid conflicts between renewable energy generation and mining claims.

DATES: This notice of segregation of the lands is effective immediately upon publication of this notice in the Federal Register.

FOR FURTHER INFORMATION CONTACT: Gregory Helseth, Renewable Energy Project Manager, 702-515-5173; 4701 North Torrey Pines Drive, Las Vegas, NV 89130-2301; email: ghelseth@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Searchlight Wind Energy, LLC (SWE), a wholly owned subsidiary of Apex Energy, applied to the Bureau of Land Management (BLM) for a right-of-way (ROW) grant on public lands to develop a 200-megawatt wind energy facility. The ROW application area encompasses approximately 18,790 acres of BLM-administered public lands adjacent to Searchlight, located approximately 60 miles southeast of Las Vegas, in Clark County, Nevada. The project is in conformance with the 1998 Las Vegas Resource Management Plan.

Segregation of Lands: A Final Rule, published in the Federal Register (78 FR 25204) on April 30, 2013, amended BLM regulations found in 43 CFR 2090 and 2800 to allow the BLM to temporarily segregate from the operation of the public land laws, by publication of a Federal Register notice, public lands included in a pending wind energy generation ROW application. The Final Rule for segregation allows a State Director to extend the project-specific segregation if that segregation would expire before a decision can be made.

This segregation is necessary to allow the BLM to complete additional analysis on the Final Environmental Impact Statement (FEIS) for the Searchlight project. The additional analysis is necessitated by the October 30, 2015, Order from the United States District Court for the District of Nevada, vacating the March 13, 2013, Searchlight Wind Record of Decision and supporting FEIS. This segregation does not affect valid existing rights. Licenses, permits, cooperative agreements, or discretionary land use authorizations of a temporary nature, which would not impact lands identified in this notice, may be allowed with the approval of an authorized officer of the BLM during the period of segregation. The lands segregated under this notice are legally described as follows:

Mount Diablo Meridian, Nevada

T. 28 S., R. 63 E.,

sec. 22, that portion of the E½SE¼ lying east of the easterly right-of-way of S.R. 95 NVCC-20733;

sec. 23, that portion lying east of the easterly right-of-way of S.R. 95 NVCC-20733, excepting Patent No. 27-72-0013, and patented mineral surveys;

sec. 24, excepting patented mineral surveys;

sec. 25, excepting patented mineral surveys;

sec. 26, excepting patented mineral surveys; and

sec. 27, those portions of lots 1, 8, 9, 10, 14, and 15 lying east of the easterly right-of-way of S.R. 95 NVCC-20733.

T. 29 S., R. 63 E.,

sec. 1;

sec. 11, that portion lying east of airport leases Nev-65340 and N-81843;

sec. 13;

sec. 14, that portion lying east of the easterly right-of-way of S.R. 95 NVCC-20845, excepting airport lease Nev-65340;

sec. 24, that portion lying east of the easterly right-of-way of S.R. 95 NVCC-20845; and

sec. 25, that portion lying east of the easterly right-of-way of S.R. 95 NVCC-20845.

T. 28 S., R. 64 E.,

secs. 19 and 20;

sec. 26, those portions of the N½NE¼SW¼, N½NW¼SW¼, and W½NW¼NW¼SE¼, lying north of the northerly right-of-way of Cottonwood Cove Road;

secs. 27 and 28;

sec. 29, excepting patented mineral surveys;

sec. 30, excepting patented mineral surveys;

sec. 31, excepting patented mineral surveys;

sec. 32, excepting patented mineral surveys; and

secs. 33 and 34.

T. 29 S., R. 64 E.,

sec. 4;

sec. 5, excepting patented mineral surveys; and

secs. 6 through 8 inclusive, 17 through 20 inclusive, 29 and 30.

The area described contains 18,790 acres in Clark County, Nevada.

As provided in the Final Rule, the segregation of lands in this notice will not exceed 2 years from the date of publication unless extended for up to 2 additional years, through publication of a new notice in the Federal Register. Termination of the segregation occurs on the earliest of the following dates: upon issuance of a decision by the authorized officer granting, granting with modifications, or denying the application for a ROW; automatically at the end of the segregation; or upon publication of a Federal Register notice of termination of the segregation.

Upon termination of segregation of these lands, all lands subject to this segregation will automatically reopen to appropriation under the public land laws.

(Authority: 43 CFR 2800 and 2090)

John F. Ruhs,
Nevada State Director.

[FR Doc. 2016-02664 Filed 2-9-16; 8:45 am]

BILLING CODE 4310-HC-P